DEPARTMENT OF JUSTICE

Antitrust Division

Notice Pursuant to the National Cooperative Research and Production Act of 1993—Green Seal, Inc.

Notice is hereby given that, on November 9, 2011, pursuant to Section 6(a) of the National Cooperative Research and Production Act of 1993, 15 U.S.C. 4301 et seq. (“the Act”), Green Seal, Inc. (“Green Seal”) has filed written notifications simultaneously with the Attorney General and the Federal Trade Commission disclosing additions or changes to its standards development activities. The notifications were filed for the purpose of extending the Act's provisions limiting the recovery of antitrust plaintiffs to actual damages under specified circumstances. Specifically, Green Seal has issued new standards for specialty cleaning products and a comprehensive revision to the standard for reusable bags.

On January 26, 2011, Green Seal filed its original notification pursuant to Section 6(a) of the Act. The Department of Justice published a notice in the Federal Register pursuant to Section 6(b) of the Act on March 7, 2011 (76 FR 12370).

The last notification was filed with the Department on June 28, 2011. A notice was published in the Federal Register pursuant to Section 6(b) of the Act on August 3, 2011 (76 FR 46843).

Patricia A. Brink,
Director of Civil Enforcement, Antitrust Division.

[FR Doc. 2011-31752 Filed 12-9-11; 8:45 am]

BILLING CODE P